DEPARTMENT OF TRANSPORTATION

Federal Highway Administration

Notice of Final Federal Agency Actions on Proposed Highway in New Hampshire

AGENCY: Federal Highway Administration (FHWA), DOT.

ACTION: Notice of limitation on claims for judicial review of actions by FHWA and other Federal agencies.

SUMMARY: This notice announces actions taken by the FHWA and other Federal agencies that are final within the meaning of 23 U.S.C.139(l)(1). The actions relate to a proposed highway project in Rockingham and Hillsborough Counties in the State of New Hampshire, Interstate 93 extending from the Massachusetts/New Hampshire state line northward approximately 19.8-miles through the Towns of Salem, Windham, Derry and Londonderry, and ending at the I-93/I-293 interchange in the City of Manchester. Those actions grant licenses, permits, and approvals for the project.

DATES: By this notice, the FHWA is advising the public of final agency actions subject to 23 U.S.C. 139(l)(1). A claim seeking judicial review of the Federal agency actions that are covered by this notice will be barred unless the claim is filed on or before March 28, 2011. If the Federal law that authorizes judicial review of a claim provides a time period of less than 180 days for filing such claim, then that shorter time period still applies.

FOR FURTHER INFORMATION CONTACT: For FHWA: Mr. Jamison S. Sikora, Environmental Programs Manager, Federal Highway Administration, 19 Chenell Drive, Suite One, Concord, NH, 03301, Office Hours: 8 a.m. to 4 p.m., (603) 228-3057, e-mail: Jamie.Sikora@.dot.gov. For NHDOT: William J. Cass, P.E., Director of Project Development, NH Department of Transportation, 1 Hazen Drive, PO Box 483, Concord, NH 03302, Office Hours: 8 a.m. to 4 p.m., (603) 271-6152, e-mail: bcass@dot.state.nh.us.

SUPPLEMENTARY INFORMATION: On May 30, 2007, the FHWA published a “Notice of Final Federal Agency Actions on the Proposed Highway in New Hampshire” in the Federal Register at 72 FR 30047-01 for the following highway project in the State of New Hampshire: improvements to an approximately 19.8-mile segment of the Interstate 93 corridor between Salem and Manchester, New Hampshire. Improvements consist of widening the existing four-lane Interstate highway to eight lanes, improvements at each of the five interchange locations along this highway segment, and addressing existing geometric deficiencies. Improvements to the corridor are considered necessary to improve transportation efficiency and reduce safety deficiencies. The FHWA project number is IM-IR-93-1(174)0. Federal agency actions covered by the May 30, 2007 FHWA notice include Final Environmental Impact Statement (FEIS) for the project, approved on April 28, 2004, FHWA Record of Decision (ROD) issued on June 28, 2005, and U.S. Army Corps of Engineers decision and permit (USACE Permit No. 199201232/NAE-2004-233). Notice is hereby given that subsequent to the May 30, 2007 FHWA notice, FHWA has taken final agency actions within the meaning of 23 U.S.C. 139(l)(1) by issuing approvals for the highway project. The FHWA's actions and the laws under which such actions were taken, are described in the FHWA Final Supplemental Environmental Impact Statement (FSEIS) for the project, approved on May 3, 2010, in the FHWA Supplemental Record of Decision (SROD) issued on September 20, 2010, and in other documents in the FHWA administrative record. The FSEIS, SROD, and other documents in the FHWA administrative record file are available by contacting the FHWA or the New Hampshire Department of Transportation at the addresses provided above. The FHWA FSEIS and SROD can be viewed and downloaded from the project Web site at http://www.rebuildingi93.com/.

This notice applies to all FHWA and other Federal agency actions taken after the May 30, 2007 FHWA Federal Register Notice described above. The laws under which actions were taken may include, but are not limited to:

1. General: National Environmental Policy Act (NEPA) [42 U.S.C. 4321-4351]; Federal-Aid Highway Act [23 U.S.C. 109].

2. Air: Clean Air Act, 42 U.S.C. 7401-7671(q).

3. Land: Section 4(f) of the Department of Transportation Act of 1966 [49 U.S.C. 303]; Landscaping and Scenic Enhancement (Wildflowers), 23 U.S.C. 319.

4. Wildlife: Endangered Species Act [16 U.S.C. 1531-1544 and Section 1536], Marine Mammal Protection Act [16 U.S.C. 1361], Fish and Wildlife Coordination Act [16 U.S.C. 661-667(d)], Migratory Bird Treaty Act [16 U.S.C. 703-712].

5. Historic and Cultural Resources: Section 106 of the National Historic Preservation Act of 1966, as amended [16 U.S.C. 470(f) et seq.]; Archeological Resources Protection Act of 1977 [16 U.S.C. 470(aa)-11]; Archeological and Historic Preservation Act [16 U.S.C. 469-469(c)]; Native American Grave Protection and Repatriation Act (NAGPRA) [25 U.S.C. 3001-3013].

6. Social and Economic: Civil Rights Act of 1964 [42 U.S.C. 2000(d)-2000(d)(1)]; American Indian Religious Freedom Act [42 U.S.C. 1996]; Farmland Protection Policy Act (FPPA) [7 U.S.C. 4201-4209].

7. Wetlands and Water Resources: Clean Water Act, 33 U.S.C. 1251-1377 (Section 404, Section 401, Section 319); Land and Water Conservation Fund (LWCF), 16 U.S.C. 4601-4604; Safe Drinking Water Act (SDWA), 42 U.S.C. 300(f)-300(j)(6); Rivers and Harbors Act of 1899, 33 U.S.C. 401-406; Wild and Scenic Rivers Act, 16 U.S.C. 1271-1287; Emergency Wetlands Resources Act, 16 U.S.C. 3921, 3931; TEA-21 Wetlands Mitigation, 23 U.S.C. 103(b)(6)(m), 133(b)(11); Flood Disaster Protection Act, 42 U.S.C. 4001-4128.

8. Executive Orders: E.O. 11990 Protection of Wetlands; E.O. 11988 Floodplain Management; E.O. 12898, Federal Actions to Address Environmental Justice in Minority Populations and Low Income Populations; E.O. 11593 Protection and Enhancement of Cultural Resources; E.O. 13007 Indian Sacred Sites; E.O. 13287 Preserve America; E.O. 13175 Consultation and Coordination with Indian Tribal Governments; E.O. 11514 Protection and Enhancement of Environmental Quality; E.O. 13112 Invasive Species.

(Catalog of Federal Domestic Assistance Program Number 20.205, Highway Planning and Construction. The regulations implementing Executive Order 12372 regarding intergovernmental consultation on Federal programs and activities apply to this program.)

Authority: 23 U.S.C. 139(l)(1).

Issued on: September 20, 2010.
Kathleen O. Laffey,
Division Administrator, Federal Highway Administration, New Hampshire Division, Concord, New Hampshire.

[FR Doc. 2010-24097 Filed 9-27-10; 8:45 am]

BILLING CODE 4910-22-P